DEPARTMENT OF LABOR

Employment and Training Administration

20 CFR Parts 641, 655, 658, 667, and 683

Office of Workers' Compensation Programs

20 CFR Part 726

Office of the Secretary of Labor

29 CFR Parts 7, 8, 22, 24, 26, 29, 37, 38, and 96

Office of Labor-Management Standards

29 CFR Parts 417 and 458

Wage and Hour Division

29 CFR Parts 500, 525, 530, and 580

Occupational Safety and Health Administration

29 CFR Parts 1978, 1979, 1980, 1981, 1982, 1983, 1984, 1985, 1986, 1987, and 1988

Office of Federal Contract Compliance Programs

41 CFR Part 60-30

RIN 1290-AA28

Rules of Practice and Procedure Concerning Filing and Service and Amended Rules Concerning Filing and Service

AGENCY: Employment and Training Administration, Office of Workers' Compensation Programs, Office of the Secretary, Office of Labor-Management Standards, Wage and Hour Division, Occupational Safety and Health Administration, Office of Federal Contract Compliance Programs.

ACTION: Proposed rule; withdrawal.

SUMMARY: The Department of Labor is withdrawing the proposed rule that accompanied its direct final rule (DFR) that requires electronic filing (e-filing) and makes acceptance of electronic service (e-service) automatic for attorneys and non-attorney representatives representing parties in proceedings before the Administrative Review Board (Board), unless the Board authorizes non-electronic filing and service for good cause; establishes a new part containing rules of practice and procedure for the Board; and amends existing regulations concerning filing and service that apply where a governing statute or executive order does not establish contrary rules of filing and service.

DATES: As of March 17, 2021, the proposed rule published January 11, 2021 (86 FR 1834), is withdrawn.

FOR FURTHER INFORMATION CONTACT: Mr. Thomas Shepherd, Clerk of the Appellate Boards, at 202-693-6319 or Shepherd.Thomas@dol.gov.

SUPPLEMENTARY INFORMATION: In the concurrent direct final rule (DFR) published at 86 FR 1772, the Department stated that if a significant adverse comment was submitted by February 10, 2021, the Department would publish a timely withdrawal in the Federal Register informing the public that the DFR will not take effect. The Department issued an identical Notice of Proposed Rulemaking (NPRM) on the same day (86 FR 1834). The Department also issued a technical correction on February 9, 2021 (86 FR 8687). The Department received no comments on the rulemaking. Accordingly, the Department is not proceeding with the proposed rule and is withdrawing it from the rulemaking process. The DFR became effective on February 25, 2021. Additionally, the Department notes that it plans to hold listening sessions during the coming weeks for users to provide feedback on the electronic filing and service system. Information about those sessions will be announced at https://efile.dol.gov.

Milton A. Stewart,
Acting Secretary of Labor.

[FR Doc. 2021-05405 Filed 3-16-21; 8:45 am]

BILLING CODE 4510-HW-P